ENVIRONMENTAL PROTECTION AGENCY

[EPA-HQ-OPP-2017-0750; FRL-10009-71]

Pesticide Registration Review; Proposed Interim Decisions for Several Neonicotinoid Pesticides; Re-Opening of Comment Period

AGENCY: Environmental Protection Agency (EPA).

ACTION: Notice; re-opening of comment period.

SUMMARY: EPA issued a notice in the Federal Register of February 3, 2020, concerning the availability of EPA's Proposed Interim Registration Review Decision for several neonicotinoids (acetamiprid, clothianidin, dinotefuran, imidacloprid, and thiamethoxam; hereafter referred to as “neonicotinoids”). The neonicotinoids were opened for a 60-day public comment period that concluded on April 3, 2020. However, a 30-day extension to the public comment period was granted, which concluded on May 4, 2020. This notice re-opens the public comment for an additional 30 days, from May 19, 2020 to June 18, 2020. This action to extend the public comment period is being taken after receiving public comments requesting additional time to review the Neonicotinoids' Proposed Interim Registration Review Decisions and supporting materials citing the quantity and complexity of the Proposed Interim Decisions and supporting documents, as well as difficulty of commenting due to time and resource constraints.

DATES: Comments, identified by docket identification (ID) number for the specific pesticide of interest provided in the Table in Unit IV in the Federal Register document of February 3, 2020 (85 FR 5953) (FRL-10004-38), must be received on or before June 18, 2020.

ADDRESSES: Follow the detailed instructions provided under ADDRESSES in the Federal Register document of February 3, 2020 (85 FR 5953) (FRL-10004-38).

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

FOR FURTHER INFORMATION CONTACT: For pesticide specific information, contact: The Chemical Review Manager for the pesticide of interest identified in the Table in Unit IV in the Federal Register document of February 3, 2020.

For general information on the registration review program, contact: Melanie Biscoe, Pesticide Re-Evaluation Division (7508P), Office of Pesticide Programs, Environmental Protection Agency, 1200 Pennsylvania Ave. NW, Washington, DC 20460-0001; telephone number: (703) 305-7106; email address: biscoe.melanie@epa.gov.

SUPPLEMENTARY INFORMATION: This document re-opens the public comment period established in the Federal Register document of February 3, 2020. In that document, the Agency announced the availability of EPA's Proposed Interim Registration Review Decision for several neonicotinoids and opened a 60-day public comment period on the proposed decisions and supporting materials. Those public comment periods were extended a further 30-days, which concluded on May 4, 2020. EPA is hereby re-opening the public comment period to June 18, 2020.

To submit comments, or access the docket, please follow the detailed instructions provided under ADDRESSES in the Federal Register document of February 3, 2020. If you have questions, consult the person listed in the Table in Unit IV in the Federal Register document of February 3, 2020.

Authority: 7 U.S.C. 136 et seq.

Dated: May 11, 2020.
Mary Reaves,
Acting Director, Pesticide Re-Evaluation Division, Office of Pesticide Programs.

[FR Doc. 2020-10751 Filed 5-18-20; 8:45 am]

BILLING CODE 6560-50-P